DEPARTMENT OF ENERGY

Federal Energy Regulatory Commission

Combined Notice of Filings #1

Take notice that the Commission received the following electric corporate filings:

Docket Numbers: EC23-44-000.

Applicants: Eight Point Wind, LLC.

Description: Application for Authorization Under Section 203 of the Federal Power Act of Eight Point Wind, LLC.

Filed Date: 12/22/22.

Accession Number: 20221222-5334.

Comment Date: 5 p.m. ET 1/12/23.

Docket Numbers: EC23-45-000.

Applicants: St. Paul Cogeneration, LLC.

Description: Application for Authorization Under Section 203 of the Federal Power Act of St. Paul Cogeneration, LLC.

Filed Date: 12/22/22.

Accession Number: 20221222-5336.

Comment Date: 5 p.m. ET 1/12/23.

Docket Numbers: EC23-46-000.

Applicants: Shawville Lessor Genco LLC, GenOn Energy Services, LLC.

Description: Application for Authorization Under Section 203 of the Federal Power Act of Shawville Lessor Genco LLC.

Filed Date: 12/23/22.

Accession Number: 20221223-5183.

Comment Date: 5 p.m. ET 1/13/23.

Docket Numbers: EC23-47-000.

Applicants: Fresh Air Energy XXIII, LLC, Fresh Air Energy XXXVII, LLC, Cathcart Solar, LLC, Thigpen Farms Solar, LLC, PGR 2022 Lessee 2, LLC.

Description: Joint Application for Authorization Under Section 203 of the Federal Power Act of Fresh Air Energy XXIII, LLC, et al.

Filed Date: 12/23/22.

Accession Number: 20221223-5185.

Comment Date: 5 p.m. ET 1/13/23.

Docket Numbers: EC23-48-000.

Applicants: Diablo Winds, LLC.

Description: Joint Application for Authorization Under Section 203 of the Federal Power Act of Diablo Winds, LLC, et al.

Filed Date: 12/23/22.

Accession Number: 20221223-5189.

Comment Date: 5 p.m. ET 1/13/23.

Take notice that the Commission received the following electric rate filings:

Docket Numbers: ER10-1789-009; ER10-1768-008; ER10-1771-008; ER16-2725-006.

Applicants: PSEG Energy Solutions LLC, PSEG Nuclear LLC, Public Service Electric and Gas Company, PSEG Energy Resources & Trade LLC.

Description: Triennial Market Power Analysis for Northeast Region of PSEG Energy Resources & Trade LLC, et al.

Filed Date: 12/23/22.

Accession Number: 20221223-5182.

Comment Date: 5 p.m. ET 2/21/23.

Docket Numbers: ER10-2010-008; ER10-2691-002.

Applicants: The Narragansett Electric Company, PPL Electric Utilities Corporation.

Description: Triennial Market Power Analysis for Northeast Region of PPL Electric Utilities Corporation, et al.

Filed Date: 12/23/22.

Accession Number: 20221223-5173.

Comment Date: 5 p.m. ET 2/21/23.

Docket Numbers: ER10-2607-007; ER10-2626-006.

Applicants: TEC Trading, Inc., Old Dominion Electric Cooperative.

Description: Triennial Market Power Analysis for Northeast Region of Old Dominion Electric Cooperative, et al.

Filed Date: 12/23/22.

Accession Number: 20221223-5181.

Comment Date: 5 p.m. ET 2/21/23.

Docket Numbers: ER11-4267-020; ER16-2412-008.

Applicants: Luning Energy LLC, Algonquin Energy Services Inc.

Description: Triennial Market Power Analysis for Northwest Region of Algonquin Energy Services Inc., et al.

Filed Date: 12/28/22.

Accession Number: 20221228-5053.

Comment Date: 5 p.m. ET 2/27/23.

Docket Numbers: ER16-1720-022.

Applicants: Invenergy Energy Management LLC.

Description: Triennial Market Power Analysis for Northwest Region of Invenergy Energy Management LLC.

Filed Date: 12/27/22.

Accession Number: 20221227-5252.

Comment Date: 5 p.m. ET 2/27/23.

Docket Numbers: ER23-352-001.

Applicants: Blue Sky West, LLC.

Description: Tariff Amendment: Supplement to Tariff Revisions to be effective 11/3/2022.

Filed Date: 12/28/22.

Accession Number: 20221228-5089.

Comment Date: 5 p.m. ET 1/18/23.

Docket Numbers: ER23-353-001.

Applicants: Evergreen Wind Power II, LLC.

Description: Tariff Amendment: Supplement to Tariff Revisions to be effective 11/3/2022.

Filed Date: 12/28/22.

Accession Number: 20221228-5092.

Comment Date: 5 p.m. ET 1/18/23.

Docket Numbers: ER23-354-001.

Applicants: Hancock Wind, LLC.

Description: Tariff Amendment: Supplement to Tariff Revisions to be effective 11/3/2022.

Filed Date: 12/28/22.

Accession Number: 20221228-5094.

Comment Date: 5 p.m. ET 1/18/23.

Docket Numbers: ER23-355-001.

Applicants: Mulberry Farm, LLC.

Description: Tariff Amendment: Supplement to Tariff Revisions to be effective 11/3/2022.

Filed Date: 12/28/22.

Accession Number: 20221228-5099.

Comment Date: 5 p.m. ET 1/18/23.

Docket Numbers: ER23-356-001.

Applicants: Selmer Farm, LLC.

Description: Tariff Amendment: Supplement to Tariff Revisions to be effective 11/3/2022.

Filed Date: 12/28/22.

Accession Number: 20221228-5100.

Comment Date: 5 p.m. ET 1/18/23.

Docket Numbers: ER23-357-001.

Applicants: Broad River Energy LLC.

Description: Tariff Amendment: Supplement to Tariff Revisions to be effective 11/3/2022.

Filed Date: 12/28/22.

Accession Number: 20221228-5090.

Comment Date: 5 p.m. ET 1/18/23.

Docket Numbers: ER23-358-001.

Applicants: KMC Thermo, LLC.

Description: Tariff Amendment: Supplement to Tariff Revisions to be effective 11/3/2022.

Filed Date: 12/28/22.

Accession Number: 20221228-5096.

Comment Date: 5 p.m. ET 1/18/23.

Docket Numbers: ER23-731-000.

Applicants: Horizon West Transmission, LLC.

Description: § 205(d) Rate Filing: HWT TRBAA 2023 Annual Update w/Waiver to be effective 1/1/2023.

Filed Date: 12/27/22.

Accession Number: 20221227-5154.

Comment Date: 5 p.m. ET 1/17/23.

Docket Numbers: ER23-732-000.

Applicants: California State University Channel Islands Site Authority.

Description: § 205(d) Rate Filing: Request for Authorization of Daily Surcharge Payment to be effective 12/27/2022.

Filed Date: 12/27/22.

Accession Number: 20221227-5172.

Comment Date: 5 p.m. ET 1/17/23.

Docket Numbers: ER23-733-000.

Applicants: Niagara Mohawk Power Corporation.

Description: Niagara Mohawk Power Corporation submits Notice of Cancellation of the Interconnection Agreement with Fibertek Energy, LLC.

Filed Date: 12/13/22.

Accession Number: 20221213-5207.

Comment Date: 5 p.m. ET 1/3/23.

Docket Numbers: ER23-734-000.

Applicants: PJM Interconnection, L.L.C.

Description: § 205(d) Rate Filing: Original ISA, Service Agreement No. 6736; Queue No. AE2-226 to be effective 11/29/2022.

Filed Date: 12/28/22.

Accession Number: 20221228-5031.

Comment Date: 5 p.m. ET 1/18/23.

Docket Numbers: ER23-735-000.

Applicants: GridLiance West LLC.

Description: § 205(d) Rate Filing: GLW TRBAA 2023 Annual Update Filing to be effective 1/1/2023.

Filed Date: 12/28/22.

Accession Number: 20221228-5032.

Comment Date: 5 p.m. ET 1/18/23.

Docket Numbers: ER23-736-000.

Applicants: PJM Interconnection, L.L.C.

Description: § 205(d) Rate Filing: Original ISA, Service Agreement No. 6725; Queue No. AE2-117 to be effective 11/29/2022.

Filed Date: 12/28/22.

Accession Number: 20221228-5050.

Comment Date: 5 p.m. ET 1/18/23.

Docket Numbers: ER23-737-000.

Applicants: North Fork Solar Project, LLC.

Description: Request for Limited Waiver and Expedited Consideration of North Fork Solar Project, LLC.

Filed Date: 12/16/22.

Accession Number: 20221216-5337.

Comment Date: 5 p.m. ET 1/6/23.

Docket Numbers: ER23-738-000.

Applicants: Trans Bay Cable LLC.

Description: § 205(d) Rate Filing: Annual TRBAA Filing—2023 to be effective 1/1/2023.

Filed Date: 12/28/22.

Accession Number: 20221228-5146.

Comment Date: 5 p.m. ET 1/18/23.

Take notice that the Commission received the following electric securities filings:

Docket Numbers: ES23-5-000.

Applicants: New Hampshire Transmission, LLC.

Description: Supplement to November 3, 2022 Application Under Section 204 of the Federal Power Act for Authorization to Issue Securities of New Hampshire Transmission, LLC.

Filed Date: 12/22/22.

Accession Number: 20221222-5260.

Comment Date: 5 p.m. ET 12/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2022.
Kimberly D. Bose,
Secretary.

[FR Doc. 2022-28568 Filed 1-3-23; 8:45 am]

BILLING CODE 6717-01-P